DEPARTMENT OF HEALTH AND HUMAN SERVICES

Food and Drug Administration

Advisory Committee on Special Studies Relating to the Possible Long-Term Health Effects of Phenoxy Herbicides and Contaminants (Ranch Hand Advisory Committee); Notice of Meeting

AGENCY: Food and Drug Administration, HHS.

ACTION: Notice.

This notice announces a forthcoming meeting of a public advisory committee of the Department of Health and Human Services. At least one portion of the meeting will be closed to the public.

Name of Committee: Advisory Committee on Special Studies Relating to the Possible Long-Term Health Effects of Phenoxy Herbicides and Contaminants (Ranch Hand Advisory Committee).

General Function of the Committee: The committee advises the Secretary and the Assistant Secretary for Health concerning its oversight of the conduct of the Ranch Hand Study by the U.S. Air Force and provides scientific oversight of the Department of Veterans Affairs (VA) Army Chemical Corps Vietnam Veterans Health Study, and other studies in which the Secretary or the Assistant Secretary for Health believes involvement by the committee is desirable.

Date and Time: The meeting will be held on March 13, 2003, 8 a.m. to 5:30 p.m.

Location: San Diego Marriott La Jolla, 4240 La Jolla Village Dr., Newport-Irvine Room, La Jolla, CA 92037.

Contact Person: Leonard M. Schechtman, National Center for Toxicological Research (HFT-10), Food and Drug Administration, 5600 Fishers Lane, rm. 16-85, Rockville, MD 20857, 301-827-6696, or FDA Advisory Committee Information Line, 1-800-741-8138 (301-443-0572 in the Washington, DC area), code 12560. Please call the Information Line for up-to-date information on this meeting.

Agenda: The Air Force will present information on the following: Personnel changes and contract actions; cancer incidence; mortality, review of latest findings; diabetes, summarize the latest analysis of the insulin sensitivity study; hypertension, summarize the latest analysis, including the skin exposure index results; thyroid, review latest results; statistics on study compliance to cycle 6; data release—the latest results on consent for future use of data; and study shutdown and transfer of data.

Procedure: On March 13, 2003, from 8 a.m. to 12 noon, and from 3 p.m. to 5:30 p.m. the meeting is open to the public. Interested persons may present data, information, or views, orally or in writing, on issues pending before the committee. Written submissions may be made to the contact person by March 5, 2003. Oral presentations from the public will be scheduled between approximately 11 a.m. to 12 noon. Time allotted for each presentation may be limited. Those desiring to make formal oral presentations should notify the contact person before March 5, 2003, and submit a brief statement of the general nature of the evidence or arguments they wish to present, the names and addresses of proposed participants, and an indication of the approximate time requested to make their presentation.

Closed Committee Deliberations: On March 13, 2003, from approximately 1 p.m. to 3 p.m., the meeting will be closed to permit discussion where disclosure would constitute a clearly unwarranted invasion of personal privacy (5 U.S.C. 552b(c)(6)). The closed portion of the meeting will allow for discussion between the committee members and study participants currently undergoing health assessments, pertaining to their participation in the Ranch Hand Study.

Persons attending FDA's advisory committee meetings are advised that the agency is not responsible for providing access to electrical outlets.

FDA welcomes the attendance of the public at its advisory committee meetings and will make every effort to accommodate persons with physical disabilities or special needs. If you require special accommodations due to a disability, please contact Leonard M. Schechtman at least 7 days in advance of the meeting.

Notice of this meeting is given under the Federal Advisory Committee Act (5 U.S.C. app. 2).

Dated: February 14, 2003.
Linda Arey Skladany,
Associate Commissioner for External Relations.

[FR Doc. 03-4492 Filed 2-25-03; 8:45 am]

BILLING CODE 4160-01-S